DEPARTMENT OF THE INTERIOR

National Park Service

[NPS-PWRO-KALA-0509-10302; 8896-SZM]

Notice of June 14, 2012, Meeting for Kalaupapa Federal Advisory Commission

AGENCY: National Park Service, Interior.

ACTION: Meeting notice.

SUMMARY: This notice sets the date of June 14, 2012, meeting of the Kalaupapa Federal Advisory Commission.

DATES: The public meeting of the Kalaupapa Federal Advisory Commission will be held on Thursday, June 14, 2012, at 9:00 a.m. (Hawaii Standard Time).

Location: The meeting will be held at Paschoal Hall, Kalaupapa National Historical Park, Kalaupapa, Hawaii 96742.

Agenda

The June 14, 2012, Commission meeting will consist of the following:

1. Approval of Agenda

2. Approval of January 23, 2012 Minutes

3. Superintendents' Report

4. Phase II—Vegetation Clearing Project

5. GMP Update

6. Memorial Update

7. Public Comments

FOR FURTHER INFORMATION CONTACT: Further information concerning this meeting may be obtained from the Superintendent, Kalaupapa National Historical Park, P.O. Box 2222, Kalaupapa, Hawaii 96742, telephone (808) 567-6802 x 1100.

SUPPLEMENTARY INFORMATION: The meeting is open to the public. Interested persons may make oral/written presentations to the Commission or file written statements. Such requests should be made to the Superintendent at least seven days prior to the meeting. Before including your address, phone number, email address, or other personal identifying information in your comment, you should be aware that your entire comment—including your personal identifying information—may be made publicly available at any time. While you can ask us in your comment to withhold your personal identifying information from public review, we cannot guarantee that we will be able to do so.

Dated: May 3, 2012.
Stephen Prokop,
Superintendent, Kalaupapa National Historical Park.

[FR Doc. 2012-13240 Filed 5-31-12; 8:45 am]

BILLING CODE 4132-GJ-P